DEPARTMENT OF THE INTERIOR

Bureau of Indian Affairs

[178A2100DD/AAKC001030/A0A501010.999900 253G]

Rate Adjustments for Indian Irrigation Projects

AGENCY: Bureau of Indian Affairs, Interior.

ACTION: Notice.

SUMMARY: The Bureau of Indian Affairs (BIA) owns or has an interest in irrigation projects located on or associated with various Indian reservations throughout the United States. We are required to establish irrigation assessment rates to recover the costs to administer, operate, maintain, and rehabilitate these projects. We are notifying you that we have adjusted the irrigation assessment rates at several of our irrigation projects and facilities to reflect current costs of administration, operation, maintenance, and rehabilitation.

DATES: The irrigation assessment rates are current as of January 1, 2016.

FOR FURTHER INFORMATION CONTACT: For details about a particular BIA irrigation project or facility, please use the tables in the SUPPLEMENTARY INFORMATION section to contact the regional or local office where the project or facility is located.

SUPPLEMENTARY INFORMATION: A Notice of Proposed Rate Adjustment was published in the Federal Register on August 5, 2016 (81 FR 51927) to propose adjustments to the irrigation assessment rates at several BIA irrigation projects. The public and interested parties were provided an opportunity to submit written comments during the 60-day period that ended October 4, 2016.

Did BIA defer or change any proposed rate increases?

Yes. For the Flathead and Duck Valley Indian Irrigation Projects the rate increase to $33.50 and $6.30, respectively, as published in the proposed notice for the 2016 rate was not implemented. The final 2016 rate will remain at the 2015 amounts of $26.00 and $5.30. All other rates are to be implemented at the respective irrigation project as published.

Did BIA receive any comments on the proposed irrigation assessment rate adjustments?

No. The BIA did not receive any comments to the proposed irrigation assessment rate adjustment.

Does this notice affect me?

This notice affects you if you own or lease land within the assessable acreage of one of our irrigation projects or if you have a carriage agreement with one of our irrigation projects.

Where can I get information on the regulatory and legal citations in this notice?

You can contact the appropriate office(s) stated in the tables for the irrigation project that serves you, or you can use the Internet site for the Government Printing Office at www.gpo.gov.

What authorizes you to issue this notice?

Our authority to issue this notice is vested in the Secretary of the Interior (Secretary) by 5 U.S.C. 301 and the Act of August 14, 1914 (38 Stat. 583; 25 U.S.C. 385). The Secretary has in turn delegated this authority to the Assistant Secretary—Indian Affairs under Part 209, Chapter 8.1A, of the Department of the Interior's Departmental Manual.

Whom can I contact for further information?

The following tables are the regional and project/agency contacts for our irrigation facilities.

Project name | Project/agency contacts
Northwest Region Contacts
Stanley Speaks, Regional Director, Bureau of Indian Affairs, Northwest Regional Office, 911 NE. 11th Avenue, Portland, OR 97232-4169, Telephone: (503) 231-6702.
Flathead Indian Irrigation Project | Pete Plant, Acting Superintendent, Pete Plant, Irrigation Project Manager, P.O. Box 40, Pablo, MT 59855, Telephones: (406) 675-2700 ext. 1300 Superintendent, (406) 745-2661 ext. 2 Project Manager.
Fort Hall Irrigation Project | David Bollinger, Irrigation Project Manager, Building #2 Bannock Ave, Fort Hall, ID 83203-0220, Telephone: (208) 238-6264
Wapato Irrigation Project | David Shaw, Superintendent, Larry Nelson, Acting Project Administrator, P.O. Box 220, Wapato, WA 98951-0220, Telephones: (509) 865-2421 Superintendent, (509) 877-3155 Acting Project Administrator.
Rocky Mountain Region Contacts
Darryl LaCounte, Regional Director, Bureau of Indian Affairs, Rocky Mountain Regional Office, 2021 4th Avenue North, Billings, MT 59101, Telephone: (406) 247-7943.
Blackfeet Irrigation Project | Thedis Crowe, Superintendent, Greg Tatsey, Irrigation Project Manager, Box 880, Browning, MT 59417, Telephones: (406) 338-7544, Superintendent, (406) 338-7519, Irrigation Project Manager.
Crow Irrigation Project | Vianna Stewart, Superintendent, John Anevski, Acting Irrigation Project Manager, P.O. Box 69, Crow Agency, MT 59022, Telephones: (406) 638-2672, Superintendent, (406) 247-7998, Acting Irrigation Project Manager.
Fort Belknap Irrigation Project | John St. Pierre, Superintendent, Vacant, Irrigation Project Manager, (Project operation & maintenance contracted to Tribes), R.R.1, Box 980, Harlem, MT 59526, Telephones: (406) 353-2901, Superintendent, (406) 353-8454, Irrigation Project Manager (Tribal Office).
Fort Peck Irrigation Project | Howard Beemer, Superintendent, Huber Wright, Acting Irrigation Project Manager, P.O. Box 637, Poplar, MT 59255, Telephones: (406) 768-5312, Superintendent, (406) 653-1752, Irrigation Project Manager.
Wind River Irrigation Project | Norma Gourneau, Superintendent, John Anevski, Acting Irrigation Project Manager, P.O. Box 158, Fort Washakie, WY 82514, Telephones: (307) 332-7810, Superintendent, (307) 247-7998, Acting Irrigation Project Manager.
Southwest Region Contacts
William T. Walker, Regional Director, Bureau of Indian Affairs, Southwest Regional Office, 1001 Indian School Road, Albuquerque, NM 87104, Telephone: (505) 563-3100.
Pine River Irrigation Project | Priscilla Bancroft, Superintendent, Vickie Begay, Irrigation Project Manager, P.O. Box 315, Ignacio, CO 81137-0315, Telephones: (970) 563-4511, Superintendent, (970) 563-9484, Irrigation Project Manager.
Western Region Contacts
Bryan Bowker, Regional Director, Bureau of Indian Affairs, Western Regional Office, 2600 N. Central Ave., 4th Floor Mailroom, Phoenix, AZ 85004, Telephone: (602) 379-6600.
Colorado River Irrigation Project | Kellie Youngbear Superintendent, Gary Colvin, Irrigation Project Manager, 12124 1st Avenue, Parker, AZ 85344, Telephone: (928) 669-7111.
Duck Valley Irrigation Project | Joseph McDade, Superintendent, (Project operation & management compacted to Tribes), 2719 Argent Ave., Suite 4, Gateway Plaza, Elko, NV 89801, Telephone: (775) 738-5165, (208) 759-3100, (Tribal Office).
Yuma Project, Indian Unit | Denni Shields, Superintendent, 256 South Second Avenue, Suite D, Yuma, AZ 85364, Telephone: (928) 782-1202.
San Carlos Irrigation Project, Indian Works and Joint Works | Ferris Begay, Project Manager, Clarence Begay, Irrigation Manager, 13805 N. Arizona Boulevard, Coolidge, AZ 85128, Telephone: (520) 723-6225.
Uintah Irrigation Project | Bart Stevens Superintendent, Ken Asay, Irrigation System Manager, P.O. Box 130, Fort Duchesne, UT 84026, Telephone: (435) 722-4300, (435) 722-4344.
Walker River Irrigation Project | Robert Eben, Superintendent, 311 E. Washington Street, Carson City, NV 89701, Telephone: (775) 887-3500.

What irrigation assessments or charges are adjusted by this notice?

The rate table below contains the current rates for all irrigation projects where we recover costs of administering, operating, maintaining, and rehabilitating them. The table also contains the final rates for the 2016 calendar year and subsequent years where applicable. An asterisk immediately following the rate category notes the irrigation projects where 2016 rates are different from the 2015 rates.

Project name | Rate category | Final 2015 rate | Final 2016 rate | Final 2017 rate **
Northwest Region Rate Table
Flathead Indian Irrigation Project (See Note #1) | Basic-per acre—A | $26.00 | $26.00 | $26.00
| Basic-per acre—B | 13.00 | 13.00 | 13.00
| Minimum Charge per tract | 75.00 | 75.00 | 75.00

Project name | Rate category | Final 2015 rate | Final 2016 rate
Fort Hall Irrigation Project | Basic per acre * | $49.00 | $52.00
| Minimum Charge per tract * | 35.00 | 37.00
Fort Hall Irrigation Project—Minor Units | Basic per acre * | 27.00 | 31.00
| Minimum Charge per tract * | 35.00 | 37.00
Fort Hall Irrigation Project—Michaud | Basic per acre * | 50.50 | 55.00
| Pressure per acre * | 72.50 | 83.00
| Minimum Charge per tract * | 35.00 | 37.00
Wapato Irrigation Project—Toppenish/Simcoe Units | Minimum Charge per bill * | 24.00 | 25.00
| Basic per acre * | 24.00 | 25.00
Wapato Irrigation Project—Ahtanum Units | Minimum Charge per bill * | 25.00 | 30.00
| Basic per acre * | 25.00 | 30.00
Wapato Irrigation Project—Satus Unit | Minimum Charge per bill | 79.00 | 79.00
| “A” Basic per acre | 79.00 | 79.00
| “B” Basic per acre | 85.00 | 85.00
Wapato Irrigation Project—Additional Works | Minimum Charge per bill * | 75.00 | 78.00
| Basic per acre * | 75.00 | 78.00
Wapato Irrigation Project—Water Rental | Minimum Charge | 86.00 | 86.00
| Basic per acre | 86.00 | 86.00
Rocky Mountain Region Rate Table
Blackfeet Irrigation Project | Basic-per acre | 20.00 | 20.00
Crow Irrigation Project—Willow Creek O&M (includes Agency, Lodge Grass #1, Lodge Grass #2, Reno, Upper Little Horn, and Forty Mile Units) | Basic-per acre * | 24.80 | 26.00
Crow Irrigation Project—All Others (includes Bighorn, Soap Creek, and Pryor Units) | Basic-per acre * | 24.80 | 26.00
Crow Irrigation Project—Two Leggins Unit | Basic-per acre | 14.00 | 14.00
Crow Irrigation Two Leggins Drainage District | Basic-per acre | 2.00 | 2.00
Fort Belknap Irrigation Project | Basic-per acre * | 15.00 | 16.00
Fort Peck Irrigation Project | Basic-per acre | 26.00 | 26.00
Wind River Irrigation Project—Units 2, 3 and 4 | Basic-per acre * | 21.00 | 22.50
Wind River Irrigation Project—Unit 6 | Basic-per acre | 21.00 | 21.00
Wind River Irrigation Project—LeClair District (see Note#2) | Basic-per acre * | 25.70 | 47.00
Wind River Irrigation Project—Crow Heart Unit | Basic-per acre * | 14.00 | 15.50
Wind River Irrigation Project—A Canal Unit | Basic-per acre * | 14.00 | 15.50
Wind River Irrigation Project—Riverton Valley Irrigation District | Basic-per acre * | 21.00 | 26.00
Southwest Region Rate Table
Pine River Irrigation Project | Minimum Charge per tract | 50.00 | 50.00
| Basic-per acre * | 17.00 | 18.00
Western Region Rate Table
Colorado River Irrigation Project | Basic per acre up to 5.75 acre-feet | $54.00 | $54.00
| Excess Water per acre-foot over 5.75 acre-feet | 17.00 | 17.00
Duck Valley Irrigation Project | Basic per acre | 5.30 | 5.30
Yuma Project, Indian Unit (See Note #3) | Basic per acre up to 5.0 acre-feet * | 108.50 | 113.00
| Excess Water per acre-foot over 5.0 acre-feet | 24.50 | 24.50
| Basic per acre up to 5.0 acre-feet (Ranch 5) * | 108.50 | 113.00

Project name | Rate category | Final 2015 rate | Final 2016 rate | Final 2017 rate **
San Carlos Irrigation Project (Joint Works) (See Note #4) | Basic per acre * | $35.00 | $30.00 | $25.00.
| Final 2016—2017 Construction Water Rate Schedule:
|  | Off project construction | On project construction—gravity water | On project construction—pump water
| Administrative Fee | $300.00 | $300.00 | $300.00.
| Usage Fee | $250.00 per month | No Fee | $100.00 per acre foot.
| Excess Water Rate † | $5.00 per 1,000 gal | No Charge | No Charge.
| † The excess water rate applies to all water used in excess of 50,000 gallons in any one month.

Project name | Rate category | Final 2015 rate | Final 2016 rate
San Carlos Irrigation Project (Indian Works) (See Note#5) | Basic per acre * | $86.00 | $81.00
Uintah Irrigation Project | Basic per acre | 18.00 | 18.00
| Minimum Bill | 25.00 | 25.00
Walker River Irrigation Project | Basic per acre | 31.00 | 31.00
* Notes irrigation projects where rates are adjusted.
** The requirement for a final 2017 Rate is only applicable to the Flathead and San Carlos Irrigation Projects due to their specific billing requirements.
Note #1: Federal Register Notice on April 29, 2016 established the 2016 rate for the Flathead Irrigation Project (81 FR 25691). This notice makes final the 2017 rate for the Flathead Irrigation Project.
Note #2: The O&M rate varies yearly based upon the budget submitted by the LeClair District.
Note #3: The O&M rate for the Yuma Project, Indian Unit has two components. The first component is the O&M rate established by the Bureau of Reclamation (BOR), the owner and operator of the Project. The BOR rate for 2016 is $110/acre. The second component is for the O&M rate established by BIA to cover administrative costs including billing and collections for the Project. The 2016 BIA rate is $3.00/acre.
Note #4:The construction water rate schedule identifies the fees assessed for use of irrigation water for non-irrigation purposes. Federal Register Notice on April 29, 2016 established the 2016 rate for the SCIP-JW (81 FR 25691). This notice makes final the 2017 rate for the SCIP-JW.
Note #5: The 2016 O&M rate for the San Carlos Irrigation Project—Indian Works has three components. The first component is the O&M rate established by the San Carlos Irrigation Project—Indian Works, the owner and operator of the Project; this rate is $51 per acre. The second component is for the O&M rate established by the San Carlos Irrigation Project—Joint Works and is determined to be $25.00 per acre. The third component is the O&M rate established by the San Carlos Irrigation Project Joint Control Board and is $5 per acre.

Consultation and Coordination With Tribal Governments (Executive Order 13175)

The Department of the Interior strives to strengthen its government-to-government relationship with Indian Tribes through a commitment to consultation with Indian Tribes and recognition of their right to self-governance and Tribal sovereignty. We have evaluated this notice under the Department's consultation policy and under the criteria of Executive Order 13175 and have determined there to be substantial direct effects on federally recognized Tribes because the irrigation projects are located on or associated with Indian reservations. To fulfill its consultation responsibility to Tribes and Tribal organizations, BIA communicates, coordinates, and consults on a continuing basis with these entities on issues of water delivery, water availability, and costs of administration, operation, maintenance, and rehabilitation of projects that concern them. This is accomplished at the individual irrigation project by project, agency, and regional representatives, as appropriate, in accordance with local protocol and procedures. This notice is one component of our overall coordination and consultation process to provide notice to, and request comments from, these entities when we adjust irrigation assessment rates.

Actions Concerning Regulations That Significantly Affect Energy Supply, Distribution, or Use (Executive Order 13211)

The rate adjustments are not a significant energy action under the definition in Executive Order 13211. A Statement of Energy Effects is not required.

Regulatory Planning and Review (Executive Order 12866)

These rate adjustments are not a significant regulatory action and do not need to be reviewed by the Office of Management and Budget under Executive Order 12866.

Regulatory Flexibility Act

These rate adjustments are not a rule for the purposes of the Regulatory Flexibility Act because they establish “a rule of particular applicability relating to rates.” 5 U.S.C. 601(2).

Unfunded Mandates Reform Act of 1995

These rate adjustments do not impose an unfunded mandate on state, local, or tribal governments in the aggregate, or on the private sector, of more than $130 million per year. They do not have a significant or unique effect on state, local, or tribal governments or the private sector. Therefore, the Department is not required to prepare a statement containing the information required by the Unfunded Mandates Reform Act (2 U.S.C. 1531 et seq.).

Takings (Executive Order 12630)

These rate adjustments do not effect a taking of private property or otherwise have “takings” implications under Executive Order 12630. The rate adjustments do not deprive the public, state, or local governments of rights or property.

Federalism (Executive Order 13132)

Under the criteria in section 1 of Executive Order 13132, these rate adjustments do not have sufficient federalism implications to warrant the preparation of a federalism summary impact statement because they will not affect the States, the relationship between the national government and the States, or the distribution of power and responsibilities among various levels of government. A federalism summary impact statement is not required.

Civil Justice Reform (Executive Order 12988)

This notice complies with the requirements of Executive Order 12988. Specifically, in issuing this notice, the Department has taken the necessary steps to eliminate drafting errors and ambiguity, minimize potential litigation, and provide a clear legal standard for affected conduct as required by section 3 of Executive Order 12988.

Paperwork Reduction Act of 1995

These rate adjustments do not affect the collections of information which have been approved by the Office of Information and Regulatory Affairs, Office of Management and Budget, under the Paperwork Reduction Act of 1995. The OMB Control Number is 1076-0141 and expires June 30, 2019.

National Environmental Policy Act

The Department has determined that these rate adjustments do not constitute a major Federal action significantly affecting the quality of the human environment and that no detailed statement is required under the National Environmental Policy Act of 1969, 42 U.S.C. 4321-4370(d), pursuant to 43 CFR 46.210(i). In addition, the rate adjustments do not present any of the 12 extraordinary circumstances listed at 43 CFR 46.215.

Data Quality Act

In developing this notice, we did not conduct or use a study, experiment, or survey requiring peer review under the Data Quality Act (Pub. L. 106-554).

Dated: March 29, 2017.
Michael S. Black,
Acting Assistant Secretary—Indian Affairs.

[FR Doc. 2017-06829 Filed 4-5-17; 8:45 am]

BILLING CODE 4337-15-P